FEDERAL COMMUNICATIONS COMMISSION

[OMB 3060-0331; FR ID 294579]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection burden on small business concerns with fewer than 25 employees. The FCC may not conduct or sponsor a collection of information unless it displays a currently valid OMB control number. No person shall be subject to any penalty for failing to comply with a collection of information subject to the PRA that does not display a valid OMB control number.

DATES: Written PRA comments should be submitted on or before July 28, 2025. If you anticipate that you will be submitting comments but find it difficult to do so within the period of time allowed by this notice, you should advise the contact listed below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION:

OMB Control Number: 3060-0331.

Title: Aeronautical Frequency Notification, FCC Form 321.

Form Number: FCC Form 321.

Type of Review: Extension of a currently approved collection.

Respondents: Business and other for-profit entities; not-for-profit institutions.

Number of Respondents: 1,886 respondents, 1,886 responses.

Estimated Time per Response: 0.67 hours.

Frequency of Response: One time and on occasion reporting requirements.

Obligation To Respond: Required to obtain or retain benefits. The statutory authority for this collection of information is contained in Sections 154(i), 301, 303, 308 and 309 of the Communications Act of 1934, as amended.

Total Annual Burden: 1,264 hours.

Total Annual Cost: $188,600.

Needs and Uses: Multichannel Video Programming Distributors (MVPDs) provide their programming over a closed system and, thus, may use all frequencies to do so. They must, however, prevent leakage of those signals from the system and guard against and minimize any harm to aeronautical communications should leak occur. Part of the regime for protecting aeronautical frequencies from interference and resolving interference is notification of the Commission of use of those frequencies and that proper frequency offsets and other precautions are taken. Form 321 is used for this purpose.

The Commission seeks an extension of this currently approved collection. Under 47 CFR 76.1804, an MVPD shall notify the Commission before transmitting any digital signal with average power exceeding 10−⁵ watts across a 30 kHz bandwidth in a 2.5 millisecond time period, or for other signal types, any carrier of other signal component with an average power level across a 25 kHz bandwidth in any 160 microsecond time period equal to or greater than 10−⁴ watts at any point in the cable distribution system on any new frequency or frequencies in the aeronautical radio frequency bands (108-137 MHz, 225-400 MHz).

The notification shall be made on FCC Form 321, which must be filed electronically via the Commission's COALS database at https://www.fcc.gov/coals.

Federal Communications Commission.
Marlene Dortch,
Secretary.

[FR Doc. 2025-09524 Filed 5-27-25; 8:45 am]

BILLING CODE 6712-01-P